DEPARTMENT OF JUSTICE

Notice of Lodging of Consent Decree Under the Clean Water Act

Consistent with to 28 CFR 50.7, notice is hereby given that on April 19,m 2005, a proposed consent decree (“decree”) in United States v. AK Steel Corporation, Civil Action No. 1:05CV1004, was lodged with the United States District Court for the Northern District of Ohio Eastern Division.

In this action, the United States seeks civil penalties and injunctive relief against AK Steel Corporation (“AK Steel”) for violations under Section 309(b) of the Clean Water Act, 33 U.S.C. 1319(b), at its Mansfield Works facility in Mansfield, Richland County, Ohio. The proposed decree provides that AK Steel will pay a civil penalty of $187,500 by electronic funds transfer.

The Department of Justice will receive for a period of thirty (30) days from the date of this publication comments relating to the decree. Comments should be addressed to the Assistant Attorney General, Environment and Natural Resources Division, PO Box 7611, Ben Franklin Station, U.S. Department of Justice, Washington, DC 20044-7611, and should refer to United States v. AK Steel Corporation, D.J. Ref. 90-7-1-07677.

The decree may be examined at the Office of the United States Attorney, 2 South Main Street, #208, Akron, OH 44308, and at the U.S. Environmental Protection Agency—Region 5, 77 West Jackson Boulevard, Chicago, IL 60604-3590. During the public comment period, the decree may also be examined on the following Department of Justice Web site, http://www.usdoj.gov/enrd/open.html. A copy of the decree may also be obtained by mail from the Consent Decree Library, PO Box 7611, Ben Franklin Station, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury.

William Brighton,
Assistant Chief, Environmental Enforcement Section, Environment and Natural Resources Division.

[FR Doc. 05-8479 Filed 4-27-05; 8:45 am]

BILLING CODE 4410-15-M